DEPARTMENT OF LABOR

Occupational Safety and Health Administration

National Advisory Committee on Ergonomics; Notice of Meeting

AGENCY: Occupational Safety and Health Administration (OSHA), Labor.

ACTION: Notice.

SUMMARY: The National Advisory Committee on Ergonomics (NACE) is part of the Secretary's comprehensive approach for reducing ergonomics-related injuries and illnesses in the workplace. The Committee was convened for the first time on January 22, 2003. This notice schedules the sixth NACE meeting. The public is encouraged to attend.

DATES: The Committee workgroups will meet on Tuesday, November 16, 2004, from 1 p.m. until approximately 5 p.m. The full Committee will meet on Wednesday, November 17, 2004, from 8:30 a.m. until approximately 5 p.m.

ADDRESSES: The Committee and workgroups will meet at the Holiday Inn on the Hill, 415 New Jersey Avenue, NW., Washington, DC 20001; Telephone: (202) 638-1616. Submit comments, views, or statements in response to this notice to MaryAnn Garrahan, Director, Office of Technical Programs and Coordination Activities, OSHA, U.S. Department of Labor, Room N-3655, 200 Constitution Avenue, NW., Washington, DC 20210. Phone: (202) 693-2144; Fax: (202) 693-1644.

FOR FURTHER INFORMATION CONTACT: OSHA, Office of Communications, Room N-3647, U.S. Department of Labor, 200 Constitution Avenue, NW., Washington, DC 20210; Telephone: (202) 693-1999.

SUPPLEMENTARY INFORMATION: NACE was chartered for a two-year term on November 27, 2002, to provide advice and recommendations on ergonomic guidelines, research, and outreach and assistance. The Committee has met in Washington, DC, on January 22, 2003; May 6-7, 2003; January 27-28, 2004; and May 11-12, 2004, and in Arlington, VA, on September 23-24, 2003. This notice announces the sixth meeting of the Committee, which will take place in Washington, DC, on November 16-17, 2004.

I. Meeting Agenda

The Committee's working groups on Research, Guidelines, and Outreach and Assistance will meet on the afternoon of November 16. The working groups will report back to the full Committee on November 17th and lead discussions about their respective topics. On November 17th, John L. Henshaw, Assistant Secretary of Occupational Safety and Health, will address the Committee. NACE will review the working group reports and consider whether to issue any further recommendations to the Agency.

II. Public Participation

Written data, views, or comments for consideration by NACE on the various agenda items listed above may be submitted, preferably with 15 copies for the NACE members, to MaryAnn Garrahan at the address listed above. Submissions received by November 9, 2004, will be provided to the Committee members for consideration. Requests to make oral presentations to the Committee may be granted if time permits. Anyone wishing to make an oral presentation to the Committee should notify MaryAnn Garrahan at the address noted above. The request should state the amount of time desired, the capacity in which the person will appear, and a brief outline of the content of the presentation. Persons who request an oral presentation may be allowed to speak, as time permits, at the discretion of the NACE Chair.

Persons with disabilities requiring special accommodations should contact Veneta Chatmon (Phone: (202) 693-1912; Fax (202) 693-1635) by November 5, 2004.

A transcript of the meeting will be available for inspection and copying in the OSHA Technical Data Center, Room N-2625 (see ADDRESSES section above) Phone: (202) 693-2350. The minutes of NACE meetings will also be available online on OSHA's Web site at www.osha.gov/SLTC/ergonomics/nat_advis_comm.html.

Authority: This notice was prepared under the direction of John L. Henshaw, Assistant Secretary for Occupational Safety and Health. It is issued under the Federal Advisory Committee Act (FACA) (5 U.S.C. App. 2), GSA's FACA Regulations (41 CFR part 102-3), and DLMS 3 chapter 1600.

Signed at Washington, DC, this 19th day of October, 2004.
John L. Henshaw,
Assistant Secretary.

[FR Doc. 04-23804 Filed 10-22-04; 8:45 am]

BILLING CODE 4510-26-P